DEPARTMENT OF COMMERCE

National Oceanic and Atmospheric Administration

50 CFR Part 300

[Docket No. 061229343-7050-02; I.D. 121406A]

RIN 0648-AV03

Pacific Halibut Fisheries; Catch Sharing Plan

AGENCY: National Marine Fisheries Service (NMFS), National Oceanic and Atmospheric Administration (NOAA), Commerce.

ACTION: Final rule.

SUMMARY: The Assistant Administrator for Fisheries, NOAA (AA), on behalf of the International Pacific Halibut Commission (IPHC), publishes annual management measures promulgated as regulations by the IPHC and approved by the Secretary of State governing the Pacific halibut fishery. The AA also announces modifications to the Catch Sharing Plan (CSP) for Area 2A (waters off the U.S. West Coast) and implementing regulations for 2007, and announces approval of the Area 2A CSP. These actions are intended to enhance the conservation of Pacific halibut and further the goals and objectives of the Pacific Fishery Management Council (PFMC) and the North Pacific Fishery Management Council (NPFMC).

DATES: Effective March 10, 2007.

ADDRESSES: Additional requests for information regarding this action may be obtained by contacting either the International Pacific Halibut Commission, P.O. Box 95009, Seattle, WA 98145-2009, or Sustainable Fisheries Division, NMFS Alaska Region, P.O. Box 21668, Juneau, AK 99802-1668, or Sustainable Fisheries Division, NMFS Northwest Region, 7600 Sand Point Way, NE, Seattle, WA 98105. This final rule also is accessible via the Internet at http://www.regulations.gov.

FOR FURTHER INFORMATION CONTACT: For waters off Alaska, Jay Ginter, 907-586-7171, e-mail at jay.ginter@noaa.gov; or for waters off the U.S. West Coast, Yvonne deReynier, 206-526-6129, e-mail at yvonne.dereynier@noaa.gov.

SUPPLEMENTARY INFORMATION:

Background

The IPHC has promulgated regulations governing the Pacific halibut fishery in 2007 under the Convention between the United States and Canada for the Preservation of the Halibut Fishery of the North Pacific Ocean and Bering Sea (Convention), signed at Ottawa, Ontario, on March 2, 1953, as amended by a Protocol Amending the Convention signed at Washington, D.C., on March 29, 1979. The IPHC regulations have been approved by the Secretary of State of the United States under section 4 of the Northern Pacific Halibut Act (Halibut Act, 16 U.S.C. 773-773k). Pursuant to regulations at 50 CFR 300.62, the approved IPHC regulations setting forth the 2007 IPHC annual management measures are published in the Federal Register to provide notice of their effectiveness, and to inform persons subject to the regulations of the restrictions and requirements. These management measures are effective until superseded by the 2008 management measures, which NMFS will publish in the Federal Register.

The IPHC held its annual meeting in Victoria, British Columbia, January 16-19, 2007, and adopted regulations for halibut fisheries in 2007. The substantive changes to the previous IPHC regulations (71 FR 10850, March 3, 2006) that affect U.S. fishermen include:

1. New catch limits in all regulatory areas (areas);

2. Opening date for commercial fisheries;

3. A new date by which managers of Community Development Quota (CDQ) fishing report sublegal sized halibut to the IPHC;

4. An allowance to temporarily possess sublegal sized halibut caught in commercial fisheries to determine whether their size meets the minimum legal size limit before returning the fish to the sea with a minimum of injury;

5. A change to regulations governing sport fishing; and

6. Adoption of the revised Area 2A CSP.

Catch Limits

The IPHC recommended catch limits for 2007 to the Governments of Canada and the United States totaling 65,170,000 pounds (29,561 metric tons (mt)) . This represents a 6.7 percent decrease from the 2006 catch limit of 69,860,000 pounds (31,688 mt). The IPHC staff reported on the assessment of the Pacific halibut stock in 2006. The assessment indicated healthy halibut stocks in Areas 3A through 2A, but indicated declines in Areas 3B and throughout Area 4 as shown by lower fishery and survey catch rates. Recruitment of 1994 and 1995 year classes appeared relatively strong in all areas except Area 4B, which continued to demonstrate lower recruitment levels for all year classes. The IPHC staff also reported that recoveries of Passive Integrated Transponder tagged halibut in the Bering Sea and Gulf of Alaska remain low, providing insufficient information to reliably estimate exploitable biomass in those areas.

Based on recommendations by the IPHC staff, the IPHC continued using an optimum harvest rate of 22.5 percent as the baseline harvest rate for Areas 2A, 2B, 2C, and 3A. However, a more conservative harvest rate was used in the western areas due to the aforementioned stock condition concerns. For Areas 3B and 4A, the IPHC continued using a harvest rate of 20 percent in recognition of the continuing trend in lower abundance. The IPHC continued using a harvest rate of 15 percent for Areas 4B and 4CDE where productivity and recruitment have continued to be low as a precautionary measure.

Opening Date for Commercial Fisheries

The opening date for the tribal commercial fishery in Area 2A and for the commercial fisheries in Areas 2B through 4E was set at March 10, 2007. This date was determined by taking into account the condition of tides and timing of the first fresh halibut to retail markets. The commercial season closing date for 2007 continues to be November 15. Commercial fishing for halibut during this period may start on March 10 at noon, local time, and end on November 15 at noon, local time. In Area 2A, 10-hour non-tribal derby openings will be held on the following days, until the quota is taken and the fishery is closed: June 27, July 11, July 25, August 8, August 22, September 5, and September 19. The commercial season in waters off British Columbia and Alaska is longer than it is in Area 2A due to the individual quota management policies that govern commercial fishing in and off of British Columbia and Alaska.

Report Date for CDQ Managers

Current regulations at sec. 7 of the Halibut Act allow persons fishing for CDQ halibut in Areas 4D or 4E to retain sublegal sized halibut for their personal use provided that they land their total annual halibut catch in these areas. In addition, managers of the CDQ organizations that authorize CDQ harvest in these areas must report annually to the IPHC the total weight and number of undersized halibut retained in Area 4D and 4E CDQ fisheries. The IPHC changed the due date for this report from December 1 to November 1 to facilitate the incorporation of these data in its annual meeting materials.

Sublegal Halibut Possession Allowance

Current regulations at sec. 14 of the Halibut Act require all halibut caught in the commercial fishery for halibut, but that are not retained, to be immediately released and returned to the sea with a minimum of injury. The IPHC recognized that this rule technically would prohibit retaining a halibut on the catcher vessel to determine whether it meets the minimum size limit for commercially harvested halibut. Hence, the IPHC recommended a regulatory change that would allow the temporary possession of a commercially harvested halibut to determine its length and if it is of sublegal size, it would be returned to the sea with a minimum of injury to enhance its survival potential.

Change to Sport Fishing Regulations off Alaska

Current regulations prohibit in all areas the filleting, mutilation or other disfigurement of sport-caught halibut that would prevent the determination of the size or number of halibut possessed or landed. In areas in and off of Alaska (Areas 2C through 4E), however, the IPHC recommended that this prohibition apply only to halibut on the catcher vessel. Once landed or offloaded from the catcher vessel, this prohibition would not apply. This change is intended to facilitate the processing of sport-caught halibut in Alaska for personal use.

Rejected Sport Fishing Regulations

The IPHC recommended decreased sport fishing daily bag limits for anglers on charter vessels in Areas 2C and 3A from two fish to one fish per angler during specific time periods. In Area 2C, the one-fish bag limit was recommended to apply to charter vessel anglers from June 15 through July 30 and in Area 3A from June 15 through June 30. The IPHC intended for these reduced bag limits to apply until superseded by regulations promulgated by the AA.

The IPHC took this action because it believed that its management goals were at risk by the rapid growth in charter vessel harvest of halibut in excess of the NPFMC′s guideline harvest level (GHL) for charter vessel harvest, especially in Area 2C. The IPHC recognized the role of the NPFMC in developing policy and regulations that allocate the Pacific halibut resource among fishermen in and off of Alaska, and that the NPFMC is actively developing a program to manage the charter vessel fishery for halibut. However, the NPFMC management program has not yet been recommended to the AA, and if approved, could not be implemented before the 2008 charter vessel fishing season. Therefore, the IPHC determined that its recommended bag limits in Areas 2C and 3A were necessary to prevent further growth in the halibut harvest by charter vessel anglers as an immediate but interim measure until the NPFMC management program for this fishery can be implemented.

The United States is unable to accept the IPHC's reduction in the daily bag limit for halibut caught from sport charter vessels in Areas 3A and 2C. These regulatory decisions are more appropriately handled through the development and implementation of regulations by domestic fisheries management agencies. For Area 3A, the State of Alaska Commissioner of Fish and Game (State) issued an emergency order on January 26, 2007, prohibiting a sport fishing guide and a sport fishing crew member working on a charter vessel in salt waters of Southcentral Alaska from retaining fish while clients are onboard the vessel. This emergency order will be effective from May 1, 2007, through December 31, 2007. Also, the emergency order limits the maximum number of lines that may be fished from a charter vessel to the number of paying clients onboard the vessel. The State estimates that this action will reduce the harvest of halibut on charter vessels in Area 3A by 7.7 percent to 10.6 percent. This reduction in the charter halibut harvest in Area 3A likely will be sufficient to maintain it at about the level of the GHL because the GHL was exceeded in this area by an estimated 8 percent to 9 percent in 2006.

For Area 2C, the IPHC-recommended bag limit reduction would likely reduce the estimated charter vessel harvest in 2006 by about 20 percent in 2007. Although the recommended one-fish bag limit on charter vessel anglers in Area 2C could lower the total charter vessel harvest somewhat, the AA has determined that a comparable mortality reduction could be achieved by alternative regulations that would minimize potential negative economic impacts on the charter vessel industry. Hence, the IPHC-recommended reduced bag limits for the charter vessel fishery in Area 2C were rejected in favor of substitute alternative restrictions which will be implemented through a separate domestic regulatory action. The AA's goal in implementing substitute restrictions is to reduce sport fishing mortality of halibut in the charter fishery sector in Area 2C to a level comparable to the level that would be achieved by the IPHC-recommended regulations. The AA intends for the substitute restrictions to minimize negative impacts on the charter fishery, its sport fishing clients, the coastal communities that serve as home ports for this fishery, and on fisheries for other species.

Catch Sharing Plan (CSP) for Area 2A

This action also implements the CSP for regulatory Area 2A. This plan was developed by the PFMC under authority of the Halibut Act. Section 5 of the Halibut Act (16 U.S.C. 773c) provides the Secretary of Commerce (Secretary) with general responsibility to carry out the Convention and to adopt such regulations as may be necessary to implement the purposes and objectives of the Convention and the Halibut Act. The Secretary's authority has been delegated to the AA. Section 5 of the Halibut Act (16 U.S.C. 773c(c)) also authorizes the Regional Fishery Management Council having authority for the geographic area concerned to develop regulations governing the Pacific halibut catch in United States Convention waters that are in addition to, but not in conflict with, regulations of the IPHC. Pursuant to this authority, the PFMC's Area 2A CSP allocates the halibut catch limit for Area 2A among treaty Indian, non-treaty commercial, and non-treaty sport fisheries in and off Washington, Oregon, and California.

For 2007, PFMC recommended changes to the CSP to modify the Pacific halibut fisheries in Area 2A in 2007 to (1) constrain the Washington North Coast subarea June fishery to two specific nearshore areas on the first Tuesday and Thursday following June 17; (2) reopen the Washington North Coast subarea June fishery in the entire north coast subarea on the first Saturday following June 17; (3) if sufficient quota remains, reopen the entire Washington North Coast subarea for one day on the first Thursday following June 24, otherwise, reopen the nearshore areas on the first Thursday following June 24 for up to four days per week (Thursday-Sunday) until the quota is taken; (4) set aside 5 percent of the Washington South Coast subarea quota for the nearshore fishery once the primary fishery has closed; (5) set the Washington South Coast subarea nearshore fishery as a 2-day per week fishery, open Fridays and Saturdays; (6) implement additional closed areas (Yelloweye Rockfish Conservation Areas, or YRCAs) off the coast of Washington that would affect commercial and sport halibut fisheries; (7) remove latitude/longitude coordinates from the CSP but refer to the regulations in which they are published to reduce duplication; (8) remove language referring to salmon troll fishery July-September season; (9) add a definition of the Bonilla-Tatoosh line; and (10) decrease the California possession limit on land from two daily limits to one daily limit statewide to conform with state regulation. NMFS published a proposed rule to implement the PFMC's recommended changes to the CSP, and to implement the 2007 Area 2A sport fishing season regulations on January 16, 2007 (72 FR 1690).

This final rule announces approval of revisions to the Area 2A CSP and implements the Area 2A CSP and management measures for 2007. These halibut management measures are effective until superceded by the 2008 halibut management measures that will be published in the Federal Register.

Comments and Responses

NMFS accepted comments on the proposed rule to implement the 2007 Area 2A CSP through February 2, 2007, and received one letter of comment from a member of the public, plus one letter of comment apiece from Washington Department of Fish and Wildlife (WDFW) and Oregon Department of Fish and Wildlife (ODFW), plus one email comment from a member of the public. NMFS also received a letter from the United States Department of Interior indicating that it had no comments to offer.

Comment 1: The WDFW held a public meeting on January 29, 2007, to review the results of the 2006 Puget Sound halibut fishery, and to develop season dates for the 2007 sport halibut fishery. Based on the 2007 Area 2A total allowable catch of 1.34 million lb (607.8 mt) the halibut quota for the Puget Sound sport fishery is 65,562 lb (29.7 mt) Applying WDFW's Fishing Equivalent Day (FED) method for estimating the Puget Sound fishery's season length, and applying the highest catch per FED in the past five years, there are 83 FEDs available for the Eastern Region and 83.5 FEDs available for the Western Region in 2007. Using the CSP's guidance for setting an earlier season for the Eastern Region of Puget Sound than for the Western Region, WDFW recommends that the regions within the Puget Sound sport halibut fishery will be open as follows: Eastern Region to be open April 9 through June 16, 2006; Western Region to be open May 24 through August 3, 2006.

Response: NMFS agrees with WDFW's recommended Puget Sound season dates and has implemented them via this final rule.

Comment 2: The ODFW held a public meeting on January 24, 2007, to gather comments on the open dates for the Spring recreational all-depth fishery in Oregon's Central Coast sub-area. Since 2003, the number of open fishing days that could be accommodated in the Spring fishery has been roughly constant. The catch limit for this sub-area's Spring season will be 170,242 lb (77.2 mt) in 2007, based on the IPHC's 2007 recommendations for Area 2A. Given the relatively constant effort pattern in recent years, and the similar catch level in 2007 to that in 2006, ODFW recommends setting a Central Coast all-depth fishery of 15 days, with 9 additional back-up dates, in case the sub-area's Spring quota is not taken in the initial 15 days. ODFW recommends the following days for the Spring fishery, within this sub-area's parameters for a Thursday-Saturday season: regular open days of May 10-12, 17-19, 24-26, and 31, June 1-2, and 7-9; back-up open days of June 22-23, and July 5-7, and 19-21. For the Summer fishery in this sub-area, ODFW recommended following the CSP's parameters of opening the first Friday in August, with open days to occur every other Friday-Sunday, unless modified inseason within the parameters of the CSP. Under the CSP, the 2007 summer all-depth fishery in Oregon's Central Coast sub-area would occur: August 3-5, 17-19, and 31, September 1-2, and 14-16, and 28-30, and October 12-14, and 26-28.

Response: NMFS agrees with ODFW's recommended Central Coast season dates and has implemented them via this final rule.

Comment 3: One member of the public sent an email comment writing, “I am a commercial salmon troller and have been limited by strict closures to our salmon season. I have applied for the incidental catch permit these past three years and have made a few extra dollars in being able to keep a limited number of halibut along with my salmon. This past year due to extreme salmon closures my catch of halibut was very minimal. I haven't taken a whole lot of halibut in my three years using the incidental catch permit. We are limited by weather, season limits, and the latest extreme salmon closures. At the same time, the sport fishery has been dramatically cut in regards to salmon, yet they were allowed to target halibut as usual. My request is that you consider either raising the quota for incidental catch for salmon trollers or at the least keep the limits the same as in the past. I do not believe the salmon trollers have a major impact on the halibut resource. I am an Oregon fisherman and am aware that there are a few boats that do quite well on the Northern Washington coast. Even with these catches I am not sure that the salmon trollers as a whole take a substantial amount of halibut. Please consider this comment in making your decision for my future in regards to the incidental Halibut fishery.”

Response: The 2007 quota for incidental halibut catch in the salmon troll fishery is established in the CSP as a proportion of the overall Area 2A total allowable catch (TAC), as are the quotas for the Washington and Oregon directed recreational fisheries for halibut. For 2007, the quota for the incidental salmon troll fishery is 40,227 lb (18.2 mt), a slight decrease from 2006, when the quota was 41,464 lb (18.8 mt). At its March 5-9, 2007, meeting in Sacramento, California, the PFMC will consider alternative incidental halibut catch rates for the 2007 salmon troll fishery. The PFMC will then make final recommendations on those incidental catch rates at its April 2-6, 2007, meeting in Tacoma, Washington, which will be included in its 2007 salmon troll fishery management recommendations to NMFS.

Annual Halibut Management Measures

The annual management measures that follow for the 2007 Pacific halibut fishery are those adopted by the IPHC and approved by the Secretary of State.

1. Short Title

These regulations may be cited as the Pacific Halibut Fishery Regulations.

2. Application

(1) These Regulations apply to persons and vessels fishing for halibut in, or possessing halibut taken from the maritime area as defined in Section 3.

(2) Sections 3 to 6 apply generally to all halibut fishng

(3) Sections 7 to 20 apply to commercial fishng for halibut

(4) Section 21 applies to tagged halibut caught by any vessel.

(5) Section 22 applies to the United States treaty Indian fishery in subarea 2A-1

(6) Section 23 applies to customary and traditional fishng in Alaska

(7) Section 24 applies to Aboriginal groups fishing for food, social and ceremonial purposes in British Columbia.

(8) Section 25 applies to sport fishing for halibut.

(9) These Regulations do not apply to fishing operations authorized or conducted by the Commission for research purposes.

3. Interpretation

(1) In these Regulations,

(a) Authorized officer means any State, Federal, or Provincial officer authorized to enforce these regulations including, but not limited to, the National Marine Fisheries Service (NMFS), Canada's Department of Fisheries and Oceans (DFO), Alaska Bureau of Wildlife Enforcement (ABWE), United States Coast Guard (USCG), Washington Department of Fish and Wildlife (WDFW), and the Oregon State Police (OSP);

(b) Authorized clearance personnel means an authorized officer of the United States, a representative of the Commission, or a designated fish processor;

(c) Charter vessel means a vessel used for hire in sport fishng for halibut, but not including a vessel without a hired operator;

(d) Commercial fishing means fishing, other than

(i) treaty Indian ceremonial and subsistence fishing as referred to in section 22,

(ii) customary and traditional fishing as referred to in section 23 and defined by and regulated pursuant to NMFS regulations published at 50 CFR part 300, the resulting catch of which is sold or bartered; or is intended to be sold or bartered, and

(iii) Aboriginal groups fishing in British Columbia as referred to in section 24;

(e) Commission means the International Pacific Halibut Commission;

(f) Daily bag limit means the maximum number of halibut a person may take in any calendar day from Convention waters;

(g) Fishing means the taking, harvesting, or catching of fish, or any activity that can reasonably be expected to result in the taking, harvesting, or catching of fish, including specifically the deployment of any amount or component part of setline gear anywhere in the maritime area;

(h) Fishing period limit means the maximum amount of halibut that may be retained and landed by a vessel during one fishing period;

(i) Land or offload with respect to halibut, means the removal of halibut from the catching vessel;

(j) License means a halibut fishing license issued by the Commission pursuant to section 4;

(k) Maritime area, in respect of the fisheries jurisdiction of a Contracting Party, includes without distinction areas within and seaward of the territorial sea and internal waters of that Party;

(l) Net weight, with respect to halibut, shall be based on halibut that is gutted, head-off, and without ice and slime;

(m) Operator, with respect to any vessel, means the owner and/or the master or other individual onboard and in charge of that vessel;

(n) Overall length of a vessel means the horizontal distance, rounded to the nearest foot, between the foremost part of the stem and the aftermost part of the stern (excluding bowsprits, rudders, outboard motor brackets, and similar fittings or attachments);

(o) Person includes an individual, corporation, firm, or association;

(p) Regulatory area means an area referred to in section 6;

(q) Setline gear means one or more stationary, buoyed, and anchored lines with hooks attached;

(r) Sport fishing means all fishing other than

(i) Commercial fishing;

(ii) Treaty Indian ceremonial and subsistence fishing as referred to in section 22;

(iii) Customary and traditional fishing as referred to in section 23 and defined in and regulated pursuant to NMFS regulations published in 50 CFR part 300; and

(iv) Aboriginal groups fishing in British Columbia as referred to in section 24.

(s) Tender means any vessel that buys or obtains fish directly from a catching vessel and transports it to a port of landing or fish processor;

(t) VMS transmitter means a NMFS-approved vessel monitoring system transmitter that automatically determines a vessel's position and transmits it to a NMFS-approved communications service provider (Call NOAA Enforcement Division, Alaska Region, at 907-586-7225 between the hours of 0800 and 1600 local time for a list of NMFS-approved VMS transmitters and communications service providers.).

(2) In these Regulations, all bearings are true and all positions are determined by the most recent charts issued by the United States National Ocean Service or the Canadian Hydrographic Service.

4. Licensing Vessels for Area 2A

(1) No person shall fish for halibut from a vessel, nor possess halibut onboard a vessel, used either for commercial fishing or as a charter vessel in Area 2A, unless the Commission has issued a license valid for fishing in Area 2A in respect of that vessel.

(2) A license issued for a vessel operating in Area 2A shall be valid only for operating either as a charter vessel or a commercial vessel, but not both.

(3) A vessel with a valid Area 2A commercial license cannot be used to sport fish for Pacific halibut in Area 2A.

(4) A license issued for a vessel operating in the commercial fishery in Area 2A shall be valid for one of the following, but not both:

(a) The directed commercial fishery during the fishing periods specified in paragraph (2) of section 8 and the incidental commercial fishery during the sablefish fishery specified in paragraph (3) of section 8; or

(b) The incidental catch fishery during the salmon troll fishery specified in paragraph (4) of section 8.

(5) A license issued in respect of a vessel referred to in paragraph (1) of this section must be carried onboard that vessel at all times and the vessel operator shall permit its inspection by any authorized officer.

(6) The Commission shall issue a license in respect of a vessel, without fee, from its office in Seattle, Washington, upon receipt of a completed, written, and signed “Application for Vessel License for the Halibut Fishery” form.

(7) A vessel operating in the directed commercial fishery or the incidental commercial fishery during the sablefish fishery in Area 2A must have its “Application for Vessel License for the Halibut Fishery” form postmarked no later than 11:59 p.m. on April 30, or on the first weekday in May if April 30 is a Saturday or Sunday.

(8) A vessel operating in the incidental commercial fishery during the salmon troll season in Area 2A must have its “Application for Vessel License for the Halibut Fishery” form postmarked no later than 11:59 p.m. on March 31, or the first weekday in April if March 31 is a Saturday or Sunday.

(9) Application forms may be obtained from any authorized officer or from the Commission.

(10) Information on “Application for Vessel License for the Halibut Fishery” form must be accurate.

(11) The “Application for Vessel License for the Halibut Fishery” form shall be completed and signed by the vessel owner.

(12) Licenses issued under this section shall be valid only during the year in which they are issued.

(13) A new license is required for a vessel that is sold, transferred, renamed, or redocumented.

(14) The license required under this section is in addition to any license, however designated, that is required under the laws of the United States or any of its States.

(15) The United States may suspend, revoke, or modify any license issued under this section under policies and procedures in 15 CFR part 904.

5. In-Season Actions

(1) The Commission is authorized to establish or modify regulations during the season after determining that such action

(a) Will not result in exceeding the catch limit established preseason for each regulatory area;

(b) Is consistent with the Convention between the United States of America and Canada for the Preservation of the Halibut Fishery of the Northern Pacific Ocean and Bering Sea, and applicable domestic law of either Canada or the United States; and

(c) Is consistent, to the maximum extent practicable, with any domestic catch sharing plans or other domestic allocation programs developed by the United States or Canadian Governments.

(2) In-season actions may include, but are not limited to, establishment or modification of the following:

(a) Closed areas;

(b) Fishing periods;

(c) Fishing period limits;

(d) Gear restrictions;

(e) Recreational bag limits;

(f) Size limits; or

(g) Vessel clearances.

(3) In-season changes will be effective at the time and date specified by the Commission.

(4) The Commission will announce in-season actions under this section by providing notice to major halibut processors; Federal, State, United States treaty Indian, Provincial fishery officials, and the media.

6. Regulatory Areas

The following areas shall be regulatory areas (see Figure 1) for the purposes of the Convention:

(1) Area 2A includes all waters off the states of California, Oregon, and Washington;

(2) Area 2B includes all waters off British Columbia;

(3) Area 2C includes all waters off Alaska that are east of a line running 340° true from Cape Spencer Light (58°11′54” N. lat., 136°38′24′′ W. long.) and south and east of a line running 205° true from said light;

(4) Area 3A includes all waters between Area 2C and a line extending from the most northerly point on Cape Aklek (57°41′15” N. lat., 155°35′00” W. long.) to Cape Ikolik (57°17′17” N. lat., 154°47′18” W. long.), then along the Kodiak Island coastline to Cape Trinity (56°44′50” N. lat., 154°08′44” W. long.), then 140° true;

(5) Area 3B includes all waters between Area 3A and a line extending 150° true from Cape Lutke (54°29′00” N. lat., 164°20′00” W. long.) and south of 54°49′00” N. lat. in Isanotski Strait;

(6) Area 4A includes all waters in the Gulf of Alaska west of Area 3B and in the Bering Sea west of the closed area defined in section 10 that are east of 172°00′00” W. long. and south of 56°20′00” N. lat.;

(7) Area 4B includes all waters in the Bering Sea and the Gulf of Alaska west of Area 4A and south of 56°20′00” N. lat.;

(8) Area 4C includes all waters in the Bering Sea north of Area 4A and north of the closed area defined in section 10 which are east of 171°00′00” W. long., south of 58°00′00” N. lat., and west of 168°00′00” W. long.;

(9) Area 4D includes all waters in the Bering Sea north of Areas 4A and 4B, north and west of Area 4C, and west of 168°00′00” W. long.;

(10) Area 4E includes all waters in the Bering Sea north and east of the closed area defined in section 10, east of 168°00′00” W. long., and south of 65°34′00” N. lat.

7. Fishing in Regulatory Area 4E and 4D

(1) Section 7 applies only to any person fishing, or vessel that is used to fish for, Area 4E Community Development Quota (CDQ) or Area 4D CDQ halibut provided that the total annual halibut catch of that person or vessel is landed at a port within Area 4E or 4D.

(2) A person may retain halibut taken with setline gear in Area 4E CDQ and 4D CDQ fishery that are smaller than the size limit specified in section 13, provided that no person may sell or barter such halibut.

(3) The manager of a CDQ organization that authorizes persons to harvest halibut in the Area 4E or 4D CDQ fisheries must report to the Commission the total number and weight of undersized halibut taken and retained by such persons pursuant to section 7, paragraph (2). This report, which shall include data and methodology used to collect the data, must be received by the Commission prior to December 1 of the year in which such halibut were harvested.

8. Fishing Periods

(1) The fishing periods for each regulatory area apply where the catch limits specified in section 11 have not been taken.

(2) Each fishing period in the Area 2A directed fishery shall begin at 0800 hours and terminate at 1800 hours local time on June 27, July 11, July 25, August 8, August 22, September 5, and September 19 unless the Commission specifies otherwise. The directed fishery is restricted to waters that are south of Point Chehalis, Washington (46°53 18′ N. lat.) under regulations promulgated by NMFS and published in the Federal Register.

(3) Notwithstanding paragraph (7) of section 11, an incidental catch fishery is authorized during the sablefish seasons in Area 2A in accordance with regulations promulgated by NMFS. The incidental fishery during the directed, fixed gear sablefish season is restricted to waters that are north of Point Chehalis, Washington (46°53 18′ N. lat.) and published in the Federal Register.

(4) Notwithstanding paragraph (2), and paragraph (7) of section 11, an incidental catch fishery is authorized during salmon troll seasons in Area 2A in accordance with regulations promulgated by NMFS.

(5) The fishing period in Areas 2B, 2C, 3A, 3B, 4A, 4B, 4C, 4D, and 4E shall begin at 1200 hours local time on March 10 and terminate at 1200 hours local time on November 15, unless the Commission specifies otherwise.

(6) All commercial fishing for halibut in Areas 2A, 2B, 2C, 3A, 3B, 4A, 4B, 4C, 4D, and 4E shall cease at 1200 hours local time on November 15.

9. Closed Periods

(1) No person shall engage in fishing for halibut in any regulatory area other than during the fishing periods set out in section 8 in respect of that area.

(2) No person shall land or otherwise retain halibut caught outside a fishing period applicable to the regulatory area where the halibut was taken.

(3) Subject to paragraphs (7), (8), (9), and (10) of section 19, these Regulations do not prohibit fishing for any species of fish other than halibut during the closed periods.

(4) Notwithstanding paragraph (3), no person shall have halibut in his/her possession while fishing for any other species of fish during the closed periods.

(5) No vessel shall retrieve any halibut fishing gear during a closed period if the vessel has any halibut onboard.

(6) A vessel that has no halibut onboard may retrieve any halibut fishing gear during the closed period after the operator notifies an authorized officer or representative of the Commission prior to that retrieval.

(7) After retrieval of halibut gear in accordance with paragraph (6), the vessel shall submit to a hold inspection at the discretion of the authorized officer or representative of the Commission.

(8) No person shall retain any halibut caught on gear retrieved referred to in paragraph (6).

(9) No person shall possess halibut aboard a vessel in a regulatory area during a closed period unless that vessel is in continuous transit to or within a port in which that halibut may be lawfully sold.

10. Closed Area

All waters in the Bering Sea north of 55°00′00” N. lat. in Isanotski Strait that are enclosed by a line from Cape Sarichef Light (54°36′0” N. lat., 164°55′42” W. long.) to a point at 56°20′00” N. lat., 168°30′00” W. long.; thence to a point at 58°21′25” N. lat., 163°00′00” W. long.; thence to Strogonof Point (56°53′18” N. lat., 158°50′37” W. long.); and then along the northern coasts of the Alaska Peninsula and Unimak Island to the point of origin at Cape Sarichef Light are closed to halibut fishing and no person shall fish for halibut therein or have halibut in his/her possession while in those waters except in the course of a continuous transit across those waters. All waters in Isanotski Strait between 55°00′00” N. lat. and 54°49′00” N. lat. are closed to halibut fishing.

11. Catch Limits

(1) The total allowable catch of halibut to be taken during the halibut fishing periods specified in section 8 shall be limited to the net weights expressed in pounds or metric tons shown in the following table:

Regulatory Area | Catch Limit: Pounds | Catch Limit: Metric tons
2A: directed commercial, and incidental commercial during salmon troll fishery | 268,182 | 121.6
2A: incidental commercial during sablefish fishery | 70,000 | 31.8
2B¹ | 11,470,000 | 5,201.8
2C | 8,510,000 | 3,859.4
3A | 26,200,000 | 11,882.1
3B | 9,220,000 | 4,181.4
4A | 2,890,000 | 1,310.7
4B | 1,440,000 | 653.1
4C | 1,866,500 | 846.5
4D | 1,866,500 | 846.5
4E | 367,000 | 166.4
¹ Area 2B includes combined commercial and sport catch limits which will be allocated by DFO.

(2) Notwithstanding paragraph (1), regulations pertaining to the division of the Area 2A catch limit between the directed commercial fishery and the incidental catch fishery as described in paragraph (4) of section 8 will be promulgated by NMFS and published in the Federal Register.

(3) The Commission shall determine and announce to the public the date on which the catch limit for Area 2A will be taken.

(4) Notwithstanding paragraph (1), Area 2B will close only when all Individual Vessel Quotas (IVQs) assigned by DFO are taken, or November 15, whichever is earlier.

(5) Notwithstanding paragraph (1), Areas 2C, 3A, 3B, 4A, 4B, 4C, 4D, and 4E will each close only when all IFQs and all CDQs issued by NMFS have been taken, or November 15, whichever is earlier.

(6) If the Commission determines that the catch limit specified for Area 2A in paragraph (1) would be exceeded in an unrestricted 10-hour fishing period as specified in paragraph (2) of section 8, the catch limit for that area shall be considered to have been taken unless fishing period limits are implemented.

(7) When under paragraphs (2), (3), and (6) the Commission has announced a date on which the catch limit for Area 2A will be taken, no person shall fish for halibut in that area after that date for the rest of the year, unless the Commission has announced the reopening of that area for halibut fishing.

(8) Notwithstanding paragraph (1), the total allowable catch of halibut that may be taken in the Area 4E directed commercial fishery is equal to the combined annual catch limits specified for the Area 4D and Area 4E CDQ fisheries. The annual Area 4D CDQ catch limit will decrease by the equivalent amount of halibut CDQ taken in Area 4E in excess of the annual Area 4E CDQ catch limit.

(9) Notwithstanding paragraph (1), the total allowable catch of halibut that may be taken in the Area 4D directed commercial fishery is equal to the combined annual catch limits specified for Area 4C and Area 4D. The annual Area 4C catch limit will decrease by the equivalent amount of halibut taken in Area 4D in excess of the annual Area 4D catch limit.

12. Fishing Period Limits

(1) It shall be unlawful for any vessel to retain more halibut than authorized by that vessel's license in any fishing period for which the Commission has announced a fishing period limit.

(2) The operator of any vessel that fishes for halibut during a fishing period when fishing period limits are in effect must, upon commencing an offload of halibut to a commercial fish processor, completely offload all halibut onboard said vessel to that processor and ensure that all halibut is weighed and reported on State fish tickets.

(3) The operator of any vessel that fishes for halibut during a fishing period when fishing period limits are in effect must, upon commencing an offload of halibut other than to a commercial fish processor, completely offload all halibut onboard said vessel and ensure that all halibut are weighed and reported on State fish tickets.

(4) The provisions of paragraph (3) are not intended to prevent retail over-the-side sales to individual purchasers so long as all the halibut onboard is ultimately offloaded and reported.

(5) When fishing period limits are in effect, a vessel's maximum retainable catch will be determined by the Commission based on

(a) The vessel's overall length in feet and associated length class;

(b) The average performance of all vessels within that class; and

(c) The remaining catch limit.

(6) Length classes are shown in the following table:

Overall Length, in feet (m) | Vessel Class
1-25 (0.3-7.6) | A
26-30 (7.9-9.1) | B
31-35 (9.4-10.7) | C
36-40 (11.0-12.2) | D
41-45 (12.5-13.7) | E
46-50 (14.0-15.2) | F
51-55 (15.5-16.8) | G
56+ (17.1+) | H

(7) Fishing period limits in Area 2A apply only to the directed halibut fishery referred to in paragraph (2) of section 8.

13. Size Limits

(1) No person shall take or possess any halibut that

(a) With the head on, is less than 32 inches (81.3 cm) as measured in a straight line, passing over the pectoral fin from the tip of the lower jaw with the mouth closed, to the extreme end of the middle of the tail, as illustrated in Figure 2; or

(b) With the head removed, is less than 24 inches (61.0 cm) as measured from the base of the pectoral fin at its most anterior point to the extreme end of the middle of the tail, as illustrated in Figure 2.

(2) No person onboard a vessel fishing for, or tendering, halibut caught in Area 2A shall possess any halibut that has had its head removed.

14. Careful Release of Halibut

(1) All halibut that are caught and are not retained shall be immediately released outboard of the roller and returned to the sea with a minimum of injury by

(a) Hook straightening;

(b) Cutting the gangion near the hook; or

(c) Carefully removing the hook by twisting it from the halibut with a gaff.

(2) Except that paragraph (1) shall not prohibit the possession of halibut onboard a vessel that has been brought aboard to be measured to determine if the minimum size limit of the halibut is met and, if sublegal-sized, is promptly returned to the sea with a minimum of injury.

15. Vessel Clearance in Area 4

(1) The operator of any vessel that fishes for halibut in Areas 4A, 4B, 4C, or 4D must obtain a vessel clearance before fishing in any of these areas, and before the landing of any halibut caught in any of these areas, unless specifically exempted in paragraphs (10), (13), (14), (15) or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in Area 4A may be obtained only at Nazan Bay on Atka Island, Dutch Harbor or Akutan, Alaska, from an authorized officer of the United States, a representative of the Commission, or a designated fish processor.

(4) The vessel clearance required under paragraph (1) prior to fishing in Area 4B may only be obtained at Nazan Bay on Atka Island or Adak, Alaska, from an authorized officer of the United States, a representative of the Commission, or a designated fish processor.

(5) The vessel clearance required under paragraph (1) prior to fishing in Area 4C and 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any halibut caught in Area 4A, a vessel operator may obtain the clearance required under paragraph (1) only in Dutch Harbor or Akutan, Alaska, by contacting an authorized officer of the United States, a representative of the Commission, or a designated fish processor.

(8) Before unloading any halibut caught in Area 4B, a vessel operator may obtain the clearance required under paragraph (1) only in Nazan Bay on Atka Island or Adak, by contacting an authorized officer of the United States, a representative of the Commission, or a designated fish processor by VHF radio or in person.

(9) Before unloading any halibut caught in Area 4C and 4D, a vessel operator may obtain the clearance required under paragraph (1) only in St. Paul, St. George, Dutch Harbor, or Akutan, Alaska, either in person or by contacting an authorized officer of the United States, a representative of the Commission, or a designated fish processor. The clearances obtained in St. Paul or St. George, Alaska, can be obtained by VHF radio and allowing the person contacted to confirm visually the identity of the vessel.

(10) Any vessel operator who complies with the requirements in section 18 for possessing halibut onboard a vessel that was caught in more than one regulatory area in Area 4 is exempt from the clearance requirements of paragraph (1) of this section, provided that

(a) The operator of the vessel obtains a vessel clearance prior to fishing in Area 4 in either Dutch Harbor, Akutan, St. Paul, St. George, Adak, or Nazan Bay on Atka Island by contacting an authorized officer of the United States, a representative of the Commission, or a designated fish processor. The clearance obtained in St. Paul, St. George, Adak, or Nazan Bay on Atka Island can be obtained by VHF radio and allowing the person contacted to confirm visually the identity of the vessel. This clearance will list the Areas in which the vessel will fish; and

(b) Before unloading any halibut from Area 4, the vessel operator obtains a vessel clearance from Dutch Harbor, Akutan, St. Paul, St. George, Adak, or Nazan Bay on Atka Island by contacting an authorized officer of the United States, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800 hours, local time.

(12) No halibut shall be onboard the vessel at the time of the clearances required prior to fishing in Area 4.

(13) Any vessel that is used to fish for halibut only in Area 4A and lands its total annual halibut catch at a port within Area 4A is exempt from the clearance requirements of paragraph (1).

(14) Any vessel that is used to fish for halibut only in Area 4B and lands its total annual halibut catch at a port within Area 4B is exempt from the clearance requirements of paragraph (1).

(15) Any vessel that is used to fish for halibut only in Areas 4C or 4D or 4E and lands its total annual halibut catch at a port within Areas 4C, 4D, 4E, or the closed area defined in section 10, is exempt from the clearance requirements of paragraph (1).

(16) Any vessel that carries a transmitting VMS transmitter while fishing for halibut in Area 4A, 4B, 4C, or 4D and until all halibut caught in any of these areas is landed is exempt from the clearance requirements of paragraph (1) of this section, provided that

(a) The operator of the vessel complies with NMFS' vessel monitoring system regulations published at 50 CFR sections 679.28(f)(3), (4) and (5); and

(b) The operator of the vessel notifies NOAA Fisheries Office for Law Enforcement at 800-304-4846 (select option 1 to speak to an Enforcement Data Clerk) between the hours of 0600 and 0000 (midnight) local time within 72 hours before fishing for halibut in Area 4A, 4B, 4C, or 4D and receives a VMS confirmation number.

16. Logs

(1) The operator of any U.S. vessel fishing for halibut that has an overall length of 26 ft (7.9 m) or greater shall maintain an accurate log of halibut fishing operations in the Groundfish/IFQ Daily Fishing Longline and Pot Gear Logbook provided by NMFS, or Alaska hook-and-line logbook provided by Petersburg Vessel Owners Association or Alaska Longline Fisherman's Association, or the Alaska Department of Fish and Game (ADF&G) longline-pot logbook, or the logbook provided by IPHC.

(2) The logbook referred to in paragraph (1) must include the following information:

(a) The name of the vessel and the state (ADF&G, WDFW, Oregon Department of Fish and Wildlife, or California Department of Fish and Game) vessel number;

(b) The date(s) upon which the fishing gear is set or retrieved;

(c) The latitude and longitude or loran coordinates or a direction and distance from a point of land for each set or day;

(d) The number of skates deployed or retrieved, and number of skates lost; and

(e) The total weight or number of halibut retained for each set or day.

(3) The logbook referred to in paragraph (1) shall be

(a) Maintained onboard the vessel;

(b) Updated not later than 24 hours after midnight local time for each day fished and prior to the offloading or sale of halibut taken during that fishing trip;

(c) Retained for a period of two years by the owner or operator of the vessel;

(d) Open to inspection by an authorized officer or any authorized representative of the Commission upon demand; and

(e) Kept onboard the vessel when engaged in halibut fishing, during transits to port of landing, and until the offloading of all halibut is completed.

(4) The log referred to in paragraph (1) does not apply to the incidental halibut fishery during the salmon troll season in Area 2A defined in paragraph (4) of section 8.

(5) The operator of any Canadian vessel fishing for halibut shall maintain an accurate log recorded in the British Columbia Integrated Groundfish Fishing Log provided by DFO.

(6) The logbook referred to in paragraph (5) must include the following information:

(a) The name of the vessel and the DFO vessel number;

(b) The date(s) upon which the fishing gear is set or retrieved;

(c) The latitude and longitude or loran coordinates or a direction and distance from a point of land for each set or day;

(d) The number of skates deployed or retrieved, and number of skates lost; and

(e) The total weight or number of halibut retained for each set or day.

(7) The logbook referred to in paragraph (5) shall be

(a) Maintained onboard the vessel;

(b) Retained for a period of two years by the owner or operator of the vessel;

(c) Open to inspection by an authorized officer or any authorized representative of the Commission upon demand;

(d) Kept onboard the vessel when engaged in halibut fishing, during transits to port of landing, and until the offloading of all halibut is completed;

(e) Mailed to the DFO (white copy) within seven days of offloading; and

(f) Mailed to the Commission (yellow copy) within seven days of the final offload if not collected by a Commission employee.

(8) No person shall make a false entry in a log referred to in this section.

17. Receipt and Possession of Halibut

(1) No person shall receive halibut from a United States vessel that does not have onboard the license required by section 4.

(2) No person shall possess onboard a vessel a halibut other than whole or with gills and entrails removed. Except that this paragraph shall not prohibit the possession onboard a vessel:

(a) Halibut cheeks cut from halibut caught by persons authorized to process the halibut onboard in accordance with NMFS regulations published at 50 CFR part 679;

(b) Fillets from halibut that have been offloaded in accordance with section 17 may be possessed onboard the harvesting vessel in the port of landing up to 1800 hours local time on the calendar day following the offload (DFO has more restrictive regulations therefore section 17(2)b does not apply to fish caught in Area 2B or landed in British Columbia); and

(c) Halibut with their heads removed in accordance with section 13.

(3) No person shall offload halibut from a vessel unless the gills and entrails have been removed prior to offloading (DFO did not adopt this regulation therefore section 17 paragraph 3 does not apply to fish caught in Area 2B).

(4) It shall be the responsibility of a vessel operator who lands halibut to continuously and completely offload at a single offload site all halibut onboard the vessel.

(5) A registered buyer (as that term is defined in regulations promulgated by NMFS and codified at 50 CFR part 679) who receives halibut harvested in IFQ and CDQ fisheries in Areas 2C, 3A, 3B, 4A, 4B, 4C, 4D, and 4E, directly from the vessel operator that harvested such halibut must weigh all the halibut received and record the following information on Federal catch reports: date of offload; name of vessel; vessel number; scale weight obtained at the time of offloading, including the weight (in pounds) of halibut purchased by the registered buyer, the weight (in pounds) of halibut offloaded in excess of the IFQ or CDQ, the weight of halibut (in pounds) retained for personal use or for future sale, and the weight (in pounds) of halibut discarded as unfit for human consumption.

(6) The first recipient, commercial fish processor, or buyer in the United States who purchases or receives halibut directly from the vessel operator that harvested such halibut must weigh and record all halibut received and record the following information on state fish tickets: the date of offload, vessel number, total weight obtained at the time of offload including the weight (in pounds) of halibut purchased, the weight (in pounds) of halibut offloaded in excess of the IFQ, CDQ, or fishing period limits, the weight of halibut (in pounds) retained for personal use or for future sale, and the weight (in pounds) of halibut discarded as unfit for human consumption.

(7) The individual completing the state fish tickets for the Area 2A fisheries as referred to in paragraph (6) must additionally record whether the halibut weight is of head-on or head-off fish.

(8) For halibut landings made in Alaska, the requirements as listed in paragraph (5) and (6) can be met by recording the information in the Interagency Electronic Reporting Systems, eLandings.

(9) The master or operator of a Canadian vessel that was engaged in halibut fishing must weigh and record all halibut onboard said vessel at the time offloading commences and record on Provincial fish tickets or Federal catch reports the date, locality, name of vessel, the name(s) of the person(s) from whom the halibut was purchased; and the scale weight obtained at the time of offloading of all halibut onboard the vessel including the pounds purchased; pounds in excess of IVQs; pounds retained for personal use; and pounds discarded as unfit for human consumption.

(10) No person shall make a false entry on a State or Provincial fish ticket or a Federal catch or landing report referred to in paragraphs (5), (6), and (9) of section 17.

(11) A copy of the fish tickets or catch reports referred to in paragraphs (5), (6), and (9) shall be

(a) Retained by the person making them for a period of three years from the date the fish tickets or catch reports are made; and

(b) Open to inspection by an authorized officer or any authorized representative of the Commission.

(12) No person shall possess any halibut taken or retained in contravention of these Regulations.

(13) When halibut are landed to other than a commercial fish processor the records required by paragraph (6) shall be maintained by the operator of the vessel from which that halibut was caught, in compliance with paragraph (9).

(14) It shall be unlawful to enter an IPHC license number on a State fish ticket for any vessel other than the vessel actually used in catching the halibut reported thereon.

18. Fishing Multiple Regulatory Areas

(1) Except as provided in this section, no person shall possess at the same time onboard a vessel halibut caught in more than one regulatory area.

(2) Halibut caught in more than one of the Regulatory Areas 2C, 3A, or 3B may be possessed onboard a vessel at the same time providing the operator of the vessel:

(a) Has a NMFS-certified observer onboard when required by NMFS regulations published at 50 CFR 679.7(f)(4); (Note: Without an observer, a vessel cannot have onboard more halibut than the IFQ for the area that is being fished even if some of the catch occurred earlier in a different area.) and

(b) Can identify the regulatory area in which each halibut onboard was caught by separating halibut from different areas in the hold, tagging halibut, or by other means.

(3) Halibut caught in more than one of the Regulatory Areas 4A, 4B, 4C, or 4D may be possessed onboard a vessel at the same time providing the operator of the vessel:

(a) Has a NMFS-certified observer onboard the vessel when halibut caught in different regulatory areas are onboard; and

(b) Can identify the regulatory area in which each halibut onboard was caught by separating halibut from different areas in the hold, tagging halibut, or by other means.

(4) Halibut caught in Regulatory Areas 4A, 4B, 4C, and 4D may be possessed onboard a vessel when in compliance with paragraph (3) and if halibut from Area 4 are onboard the vessel, the vessel can have halibut caught in Regulatory Areas 2C, 3A, and 3B onboard if in compliance with paragraph (2).

19. Fishing Gear

(1) No person shall fish for halibut using any gear other than hook and line gear, except that vessels licensed to catch sablefish in Area 2B using sablefish trap gear as defined in the Condition of Sablefish Licence can retain halibut caught as bycatch under regulations promulgated by the Canadian Department of Fisheries and Oceans.

(2) No person shall possess halibut taken with any gear other than hook and line gear, except that vessels licensed to catch sablefish in Area 2B using sablefish trap gear as defined by the Condition of Sablefish Licence can retain halibut caught as bycatch under regulations promulgated by the Canadian Department of Fisheries and Oceans.

(3) No person shall possess halibut while onboard a vessel carrying any trawl nets or fishing pots capable of catching halibut, except that in Areas 2C, 3A, 3B, 4A, 4B, 4C, 4D, or 4E, halibut heads, skin, entrails, bones or fins for use as bait may be possessed onboard a vessel carrying pots capable of catching halibut, provided that a receipt documenting purchase or transfer of these halibut parts is onboard the vessel.

(4) All setline or skate marker buoys carried onboard or used by any United States vessel used for halibut fishing shall be marked with one of the following:

(a) The vessel's state license number; or

(b) The vessel's registration number.

(5) The markings specified in paragraph (4) shall be in characters at least four inches in height and one-half inch in width in a contrasting color visible above the water and shall be maintained in legible condition.

(6) All setline or skate marker buoys carried onboard or used by a Canadian vessel used for halibut fishing shall be

(a) Floating and visible on the surface of the water; and

(b) Legibly marked with the identification plate number of the vessel engaged in commercial fishing from which that setline is being operated.

(7) No person onboard a vessel from which setline gear was used to fish for any species of fish anywhere in Area 2A during the 72-hour period immediately before the opening of a halibut fishing period shall catch or possess halibut anywhere in those waters during that halibut fishing period.

(8) No vessel from which setline gear was used to fish for any species of fish anywhere in Area 2A during the 72-hour period immediately before the opening of a halibut fishing period may be used to catch or possess halibut anywhere in those waters during that halibut fishing period.

(9) No person onboard a vessel from which setline gear was used to fish for any species of fish anywhere in Areas 2B, 2C, 3A, 3B, 4A, 4B, 4C, 4D, or 4E during the 72-hour period immediately before the opening of the halibut fishing season shall catch or possess halibut anywhere in those areas until the vessel has removed all of its setline gear from the water and has either

(a) Made a landing and completely offloaded its entire catch of other fish; or

(b) Submitted to a hold inspection by an authorized officer.

(10) No vessel from which setline gear was used to fish for any species of fish anywhere in Areas 2B, 2C, 3A, 3B, 4A, 4B, 4C, 4D, or 4E during the 72-hour period immediately before the opening of the halibut fishing season may be used to catch or possess halibut anywhere in those areas until the vessel has removed all of its setline gear from the water and has either

(a) Made a landing and completely offloaded its entire catch of other fish; or

(b) Submitted to a hold inspection by an authorized officer.

(11) Notwithstanding any other provision in these regulations, a person may retain, possess and dispose of halibut taken with trawl gear only as authorized by Prohibited Species Donation regulations of NMFS.

20. Supervision of Unloading and Weighing

The unloading and weighing of halibut may be subject to the supervision of authorized officers to assure the fulfillment of the provisions of these Regulations.

21. Retention of Tagged Halibut

(1) Nothing contained in these Regulations prohibits any vessel at any time from retaining and landing a halibut that bears a Commission external tag at the time of capture, if the halibut with the tag still attached is reported at the time of landing and made available for examination by a representative of the Commission or by an authorized officer.

(2) After examination and removal of the tag by a representative of the Commission or an authorized officer, the halibut

(a) May be retained for personal use; or

(b) May be sold only if the halibut is caught during commercial halibut fishing and complies with the other commercial fishing provisions of these regulations.

(3) Externally tagged fish must count against commercial IVQs, CDQs, IFQs, or daily bag or possession limits unless otherwise exempted by state, provincial, or Federal regulations.

22. Fishing by United States Treaty Indian Tribes

(1) Halibut fishing in subarea 2A-1 by members of United States treaty Indian tribes located in the State of Washington shall be regulated under regulations promulgated by NMFS and published in the Federal Register.

(2) Subarea 2A-1 includes all waters off the coast of Washington that are north of 46°53′18″N. lat. and east of 125°44′00″W. long., and all inland marine waters of Washington.

(3) Section 13 (size limits), section 14 (careful release of halibut), section 16 (logs), section 17 (receipt and possession of halibut) and section 19 (fishing gear), except paragraphs (7) and (8) of section 19, apply to commercial fishing for halibut in subarea 2A-1 by the treaty Indian tribes.

(4) Commercial fishing for halibut in subarea 2A-1 is permitted with hook and line gear from March 10 through November 15, or until 461,000 lb (209.1 mt) net weight is taken, whichever occurs first.

(5) Ceremonial and subsistence fishing for halibut in subarea 2A-1 is permitted with hook and line gear from January 1 through December 31, and is estimated to take 33,000 lb (15.0 mt) net weight.

23. Customary and Traditional Fishing in Alaska

(1) Customary and traditional fishing for halibut in Regulatory Areas 2C, 3A, 3B, 4A, 4B, 4C, 4D, and 4E shall be governed pursuant to regulations promulgated by the National Marine Fisheries Service and published in 50 CFR part 300.

(2) Customary and traditional fishing is authorized from January 1 through December 31.

24. Aboriginal Groups Fishing for Food, Social, and Ceremonial Purposes in British Columbia

(1) Fishing for halibut for food, social, and ceremonial purposes by Aboriginal groups in Regulatory Area 2B shall be governed by the Fisheries Act of Canada and regulations as amended from time to time.

25. Sport Fishing for Halibut

(1) No person shall engage in sport fishing for halibut using gear other than a single line with no more than two hooks attached; or a spear.

(2) In all waters off Alaska

(a) The sport fishing season is from February 1 to December 31;

(b) The daily bag limit is two halibut of any size per day per person.

(3) In all waters off British Columbia

(a) The sport fishing season is from February 1 to December 31;

(b) The daily bag limit is two halibut of any size per day per person.

(4) In all waters off California, Oregon, and Washington

(a) The total allowable catch of halibut shall be limited to

(i) 239,636 lb (108.7 mt) net weight in waters off Washington; and

(ii) 268,182 lb (121.6 mt) net weight in waters off California and Oregon.

(b) The sport fishing subareas, subquotas, fishing dates, and daily bag limits are as follows, except as modified under the inseason actions authorized at 50 CFR 300.63 (c). All sport fishing in Area 2A is managed on a “port of landing” basis, whereby any halibut landed into a port counts toward the quota for the area in which that port is located, and the regulations governing the area of landing apply, regardless of the specific area of catch.

(i) The area in Puget Sound and the U.S. waters in the Strait of Juan de Fuca, east of a line extending from 48°17.30′ N. lat., 124°23.70′ W. long. north to 48°24.10′ N. lat., 124°23.70′ W. long., is not managed inseason relative to its quota. This area is managed by setting a season that is projected to result in a catch of 65,562 lb (29.7 mt).

(A) The fishing season in eastern Puget Sound (east of 123°49.50′ W. long., Low Point) is April 9 through June 16 and the fishing season in western Puget Sound (west of 123°49.50′ W. long., Low Point) is May 24 through August 3, 5 days a week (Thursday through Monday).

(B) The daily bag limit is one halibut of any size per day per person.

(ii) The quota for landings into ports in the area off the north Washington coast, west of the line described in paragraph (4)(b)(i) of this section and north of the Queets River (47°31.70′ N. lat.), is 116,199 lb (52.7 mt).

(A) The fishing seasons are

(1) Commencing on May 15 and continuing 3 days a week (Tuesday, Thursday, and Saturday) until 83,663 lb (37.9 mt) are estimated to have been taken and the season is closed by the Commission.

(2) On June 19 and 21, the fishery will open only in the nearshore areas defined at the end of this paragraph. The fishery will open for one day on June 23 in the entire north coast subarea. If sufficient quota remains, the fishery would reopen, as a first priority, in the entire north coast subarea for one day on June 28. If there is insufficient quota remaining to reopen the entire north coast subarea on June 28, then the nearshore areas described below would reopen on June 28, up to four days per week (Thursday-Sunday), until the overall quota of 116,199 lb (52.7 mt) are estimated to have been taken and the area is closed by the Commission, or until September 30, whichever is earlier. After June 23, any fishery opening will be announced on the NMFS hotline at 800-662-9825. No halibut fishing will be allowed after June 23 unless the date is announced on the NMFS hotline. The nearshore areas for Washington's North Coast fishery are defined as follows:

(a) WDFW Marine Catch Area 4B, which is all waters west of the Sekiu River mouth, as defined by a line extending from 48°17.30′ N. lat., 124°23.70′ W. long. north to 48°24.10′ N. lat., 124°23.70′ W. long., to the Bonilla-Tatoosh line, as defined by a line connecting the light on Tatoosh Island, WA, with the light on Bonilla Point on Vancover Island, British Columbia (at 48°35.73′ N. lat., 124°43.00′ W. long.) south of the International Boundary between the U.S. and Canada (at 48°29.62′ N.lat., 124°43.55′ W.long.), and north of the point where that line intersects with the boundary of the U.S. territorial sea.

(b) Shoreward of the recreational halibut 30-fm boundary line, a modified line approximating the 30 fm (55 m) depth contour from the Bonilla-Tatoosh line south to the Queets River, as defined by straight lines connecting all of the following points in the order stated:

(1) 48°24.79′ N. lat., 124°44.07′ W. long.;

(2) 48°24.80′ N. lat., 124°44.74′ W. long.;

(3) 48°23.94′ N. lat., 124°44.70′ W. long.;

(4) 48°23.51′ N. lat., 124°45.01′ W. long.;

(5) 48°22.59′ N. lat., 124°44.97′ W. long.;

(6) 48°21.75′ N. lat., 124°45.26′ W. long.;

(7) 48°21.23′ N. lat., 124°47.78′ W. long.;

(8) 48°20.32′ N. lat., 124°49.53′ W. long.;

(9) 48°16.72′ N. lat., 124°51.58′ W. long.;

(10) 48°10.00′ N. lat., 124°52.58′ W. long.;

(11) 48°05.63′ N. lat., 124°52.91′ W. long.;

(12) 47°53.37′ N. lat., 124°47.37′ W. long.;

(13) 47°40.28′ N. lat., 124°40.07′ W. long.; and

(14) 47°31.70′ N. lat., 124°37.03′ W. long.

(B) The daily bag limit is one halibut of any size per day per person.

(C) Recreational fishing for groundfish and halibut is prohibited within the North Coast Recreational Yelloweye Rockfish Conservation Area (YRCA). It is unlawful for recreational fishing vessels to take and retain, possess, or land halibut taken with recreational gear within the North Coast Recreational YRCA. A vessel fishing in the North Coast Recreational YRCA may not be in possession of any halibut. Recreational vessels may transit through the North Coast Recreational YRCA with or without halibut onboard. The North Coast Recreational YRCA is a C-shaped area off the northern Washington coast intended to protect yelloweye rockfish. The North Coast Recreational YRCA is defined by straight lines connecting the following specific latitude and longitude coordinates in the order listed:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.;

and connecting back to 48°18.00′ N. lat.; 125°18.00′ W. long.

(iii) The quota for landings into ports in the area between the Queets River, Washington, (47°31.70′ N. lat.) and Leadbetter Point, Washington, (46°38.17′ N. lat.), is 50,907 lb (23 mt).

(A) The fishing season commences on May 1 and continues 5 days a week (Sunday through Thursday) in all waters, except that in the area from 47°25.00′ N. lat. south to 46°58.00′ N. lat. and east of 124°30.00′ W. long. (the Washington South coast, northern nearshore area), the fishing season commences on May 1 and continues 7 days a week. The south coast subarea quota will be allocated as follows: 48,362 lb (22 mt), 95 percent, for the primary fishery, and 2,545 lb (1.2 mt), 5 percent, for the northern nearshore fishery, once the primary fishery has closed. The primary fishery will continue from May 1 until 48,362 lb (22 mt) are estimated to have been taken and the season is closed by the Commission, or until September 30, whichever is earlier. Subsequent to this closure, if there is insufficient quota remaining to reopen the primary fishery for another fishing day, then any remaining quota may be used to accommodate incidental catch in the northern nearshore area from 47°25.00′ N. lat. south to 46°58.00′ N. lat. and east of 124°30.00′ W. long. on Fridays and Saturdays, until 50,907 lb (23 mt) is projected to be taken and the fishery is closed by the Commission. No fishing is allowed after the closure of the primary fishery unless openings are announced on the NMFS hotline at 800-662-9825. If the fishery is closed prior to September 30, and there is insufficient quota remaining to reopen the northern nearshore area for another fishing day, then any remaining quota may be transferred inseason to another Washington coastal subarea by NMFS via an update to the recreational halibut hotline.

(B) The daily bag limit is one halibut of any size per day per person.

(C) Recreational fishing for groundfish and halibut is prohibited within the South Coast Recreational YRCA. It is unlawful for recreational fishing vessels to take and retain, possess, or land halibut taken with recreational gear within the South Coast Recreational YRCA. A vessel fishing in the South Coast Recreational YRCA may not be in possession of any halibut. Recreational vessels may transit through the South Coast Recreational YRCA with or without halibut onboard. The South Coast Recreational YRCA is an area off the southern Washington coast intended to protect yelloweye rockfish. The South Coast Recreational YRCA is defined by straight lines connecting the following specific latitude and longitude coordinates in the order listed:

(1) 46°58.00′ N. lat., 124°48.00′ W. long.;

(2) 46°55.00′ N. lat., 124°48.00′ W. long.;

(3) 46°58.00′ N. lat., 124°49.00′ W. long.;

(4) 46°55.00′ N. lat., 124°49.00′ W. long.;

and connecting back to 46°58.00′ N. lat., 124°48.00′ W. long.

(iv) The quota for landings into ports in the area between Leadbetter Point, Washington, (46°38.17′ N. lat.) and Cape Falcon, Oregon, (45°46.00′ N. lat.), is 20,378 lb (9.2 mt).

(A) The fishing season commences on May 1, and continues 7 days a week until 14,264 lb (6.5 mt) are estimated to have been taken and the season is closed by the Commission or until July 15, whichever is earlier. The fishery will reopen on August 3 and continue 3 days a week (Friday through Sunday) until 20,378 lb (9.2 mt) have been taken and the season is closed by the Commission, or until September 30, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution.

(B) The daily bag limit is one halibut of any size per day per person.

(C) Pacific Coast groundfish may not be taken and retained, possessed or landed, except sablefish and Pacific cod when allowed by Pacific Coast groundfish regulations, if halibut are onboard the vessel.

(v) The quota for landings into ports in the area off Oregon between Cape Falcon (45°46.00′ N. lat.) and Humbug Mountain (42°40.50′ N. lat.), is 246,727 lb (111.9 mt).

(A) The fishing seasons are

(1) The first season (the “inside 40-fm” fishery) commences May 1 and continues 7 days a week through October 31, in the area shoreward of a boundary line approximating the 40-fm (73-m) depth contour, or until the sub-quota for the central Oregon “inside 40-fm” fishery (19,738 lb (8.6 mt)) or any inseason revised subquota is estimated to have been taken and the season is closed by the Commission, whichever is earlier. The boundary line approximating the 40-fm (73-m) depth contour between 45°46.00′ N. lat. and 42°40.50′ N. lat. is defined by straight lines connecting all of the following points in the order stated:

(1) 45°46.00′ N. lat., 124°04.49′ W. long.;

(2) 45°44.34′ N. lat., 124°05.09′ W. long.;

(3) 45°40.64′ N. lat., 124°04.90′ W. long.;

(4) 45°33.00′ N. lat., 124°04.46′ W. long.;

(5) 45°32.27′ N. lat., 124°04.74′ W. long.;

(6) 45°29.26′ N. lat., 124°04.22′ W. long.;

(7) 45°20.25′ N. lat., 124°04.67′ W. long.;

(8) 45°19.99′ N. lat., 124°04.62′ W. long.;

(9) 45°17.50′ N. lat., 124°04.91′ W. long.;

(10) 45°11.29′ N. lat., 124°05.20′ W. long.;

(11) 45°05.80′ N. lat., 124°05.40′ W. long.;

(12) 45°05.08′ N. lat., 124°05.93′ W. long.;

(13) 45°03.83′ N. lat., 124°06.47′ W. long.;

(14) 45°01.70′ N. lat., 124°06.53′ W. long.;

(15) 44°58.75′ N. lat., 124°07.14′ W. long.;

(16) 44°51.28′ N. lat., 124°10.21′ W. long.;

(17) 44°49.49′ N. lat., 124°10.90′ W. long.;

(18) 44°44.96′ N. lat., 124°14.39′ W. long.;

(19) 44°43.44′ N. lat., 124°14.78′ W. long.;

(20) 44°42.26′ N. lat., 124°13.81′ W. long.;

(21) 44°41.68′ N. lat., 124°15.38′ W. long.;

(22) 44°34.87′ N. lat., 124°15.80′ W. long.;

(23) 44°33.74′ N. lat., 124°14.44′ W. long.;

(24) 44°27.66′ N. lat., 124°16.99′ W. long.;

(25) 44°19.13′ N. lat., 124°19.22′ W. long.;

(26) 44°15.35′ N. lat., 124°17.38′ W. long.;

(27) 44°14.38′ N. lat., 124°17.78′ W. long.;

(28) 44°12.80′ N. lat., 124°17.18′ W. long.;

(29) 44°09.23′ N. lat., 124°15.96′ W. long.;

(30) 44°08.38′ N. lat., 124°16.79′ W. long.;

(31) 44°08.30′ N. lat., 124°16.75′ W. long.;

(32) 44°01.18′ N. lat., 124°15.42′ W. long.;

(33) 43°51.61′ N. lat., 124°14.68′ W. long.;

(34) 43°42.66′ N. lat., 124°15.46′ W. long.;

(35) 43°40.49′ N. lat., 124°15.74′ W. long.;

(36) 43°38.77′ N. lat., 124°15.64′ W. long.;

(37) 43°34.52′ N. lat., 124°16.73′ W. long.;

(38) 43°28.82′ N. lat., 124°19.52′ W. long.;

(39) 43°23.91′ N. lat., 124°24.28′ W. long.;

(40) 43°20.83′ N. lat., 124°26.63′ W. long.;

(41) 43°17.96′ N. lat., 124°28.81′ W. long.;

(42) 43°16.75′ N. lat., 124°28.42′ W. long.;

(43) 43°13.97′ N. lat., 124°31.99′ W. long.;

(44) 43°13.72′ N. lat., 124°33.25′ W. long.;

(45) 43°12.26′ N. lat., 124°34.16′ W. long.;

(46) 43°10.96′ N. lat., 124°32.33′ W. long.;

(47) 43°05.65′ N. lat., 124°31.52′ W. long.;

(48) 42°59.66′ N. lat., 124°32.58′ W. long.;

(49) 42°54.97′ N. lat., 124°36.99′ W. long.;

(50) 42°53.81′ N. lat., 124°38.57′ W. long.;

(51) 42°50.00′ N. lat., 124°39.68′ W. long.;

(52) 42°49.13′ N. lat., 124°39.70′ W. long.;

(53) 42°46.47′ N. lat., 124°38.89′ W. long.;

(54) 42°45.74′ N. lat., 124°38.86′ W. long.;

(55) 42°44.79′ N. lat., 124°37.96′ W. long.;

(56) 42°45.01′ N. lat., 124°36.39′ W. long.;

(57) 42°44.14′ N. lat., 124°35.17′ W. long.;

(58) 42°42.14′ N. lat., 124°32.82′ W. long.; and

(59) 42°40.50′ N. lat., 124°31.98′ W. long.

(2) The second season (spring season), which is for the “all-depth” fishery, is open on May 10, 11, 12, 17, 18, 19, 24, 25, 26, 31, and June 1, 2, 7, 8, 9. The projected catch for this season is 170,242 lb (77.2 mt). If sufficient unharvested catch remains for additional fishing days, the season will re-open. Dependent on the amount of unharvested catch available, the potential season re-opening dates will be: June 21, 22, 23, and July 5, 6, 7, 19, 20, 21. If NMFS decides inseason to allow fishing on any of these re-opening dates, notice of the re-opening will be announced on the NMFS hotline (206) 526-6667 or (800) 662-9825. No halibut fishing will be allowed on the re-opening dates unless the date is announced on the NMFS hotline.

(3) If sufficient unharvested catch remains, the third season (summer season), which is for the “all-depth” fishery, will be open on August 3, 4, 5, 17, 18, 19, 31, September 1, 2, 14, 15, 16, 28, 29, 30, and October 12, 13, 14, 26, 27, 28, or until the combined spring season and summer season quotas in the area between Cape Falcon and Humbug Mountain, Oregon, totaling 226,989 lb (103 mt), are estimated to have been taken and the area is closed by the Commission, or October 31, whichever is earlier. NMFS will announce on the NMFS hotline in July if the fishery will re-open for the summer season in August. No halibut fishing will be allowed in the summer season fishery unless the dates are announced on the NMFS hotline. Additional fishing days may be opened if a certain amount of quota remains after August 5 and September 2. If after August 5, greater than or equal to 60,000 lb (27.2 mt) remains in the combined all-depth and inside 40-fm (73-m) quota, the fishery may re-open every Friday through Sunday, beginning August 10 - 12, and ending October 26 - 28. If after September 2, greater than or equal to 30,000 lb (13.6 mt) remains in the combined all-depth and inside 40-fm (73-m) quota, and the fishery is not already open every Friday through Sunday, the fishery may re-open every Friday through Sunday, beginning September 7 - 9, and ending October 26 - 28. After September 2, the bag limit may be increased to two fish of any size per person, per day. NMFS will announce on the NMFS hotline whether the summer all-depth fishery will be open on such additional fishing days, days the fishery will be open, and the bag limit.

(B) The daily bag limit is one halibut of any size per day per person, unless otherwise specified. NMFS will announce on the NMFS hotline any bag limit changes.

(C) During days open to all-depth halibut fishing, no Pacific Coast groundfish may be taken and retained, possessed or landed, except sablefish when allowed by Pacific Coast groundfish regulations, if halibut are onboard the vessel.

(D) When the all-depth halibut fishery is closed and halibut fishing is permitted only shoreward of a boundary line approximating the 40-fm (73-m) depth contour, halibut possession and retention by vessels operating seaward of a boundary line approximating the 40-fm (73-m) depth contour is prohibited.

(E) Recreational fishing for groundfish and halibut is prohibited within the Stonewall Bank YRCA. It is unlawful for recreational fishing vessels to take and retain, possess, or land halibut taken with recreational gear within the Stonewall Bank YRCA. A vessel fishing in the Stonewall Bank YRCA may not be in possession of any halibut. Recreational vessels may transit through the Stonewall Bank YRCA with or without halibut onboard. The Stonewall Bank YRCA is an area off central Oregon, near Stonewall Bank, intended to protect yelloweye rockfish. The Stonewall Bank YRCA is defined by straight lines connecting the following specific latitude and longitude coordinates in the order listed:

(1) 44°37.46 N. lat.; 124°24.92′ W. long.;

(2) 44°37.46 N. lat.; 124°23.63′ W. long.;

(3) 44°28.71 N. lat.; 124°21.80′ W. long.;

(4) 44°28.71 N. lat.; 124°24.10′ W. long.;

(5) 44°31.42 N. lat.; 124°25.47′ W. long.;

and connecting back to 44°37.46′ N. lat.; 124°24.92′ W. long.

(vi) In the area south of Humbug Mountain, Oregon (42°40.50′ N. lat.) and off the California coast, there is no quota. This area is managed on a season that is projected to result in a catch of 8,045 lb (3.6 mt).

(A) The fishing season will commence on May 1 and continue 7 days a week until October 31.

(B) The daily bag limit is one halibut of any size per day per person.

(c) The Commission shall determine and announce closing dates to the public for any area in which the catch limits promulgated by NMFS are estimated to have been taken.

(d) When the Commission has determined that a subquota under paragraph (4)(b) of this section is estimated to have been taken, and has announced a date on which the season will close, no person shall sport fish for halibut in that area after that date for the rest of the year, unless a reopening of that area for sport halibut fishing is scheduled in accordance with the Catch Sharing Plan for Area 2A, or announced by the Commission.

(5) Any minimum overall size limit promulgated under IPHC or NMFS regulations shall be measured in a straight line passing over the pectoral fin from the tip of the lower jaw with the mouth closed, to the extreme end of the middle of the tail.

(6) In California, Oregon, Washington, or British Columbia no person shall fillet, mutilate, or otherwise disfigure a halibut in any manner that prevents the determination of minimum size or the number of fish caught, possessed, or landed.

(7) In Alaska no person shall fillet, mutilate, or otherwise disfigure a halibut in any manner that prevents the determination of minimum size or the number of fish caught while onboard the catcher vessel.

(8) The possession limit for halibut in the waters off the coast of Alaska is two daily bag limits.

(9) The possession limit for halibut in the waters off the coast of British Columbia is three halibut.

(10) The possession limit on a vessel for halibut in the waters off the coast of Washington is the same as the daily bag limit.

(11) The possession limit on land in Washington for halibut caught is U.S. waters off the coast of Washington is two halibut.

(12) The possession limit on a vessel for halibut caught in the waters off the coast of Oregon is the same as the daily bag limit.

(13) The possession limit on a vessel for halibut caught in the waters off the coast of California is one halibut.

(14) The possession limit for halibut on land in Oregon is three daily bag limits.

(15) The possession limit for halibut on land in California is one halibut.

(16) Any halibut brought aboard a vessel and not immediately returned to the sea with a minimum of injury will be included in the daily bag limit of the person catching the halibut.

(17) No person shall be in possession of halibut on a vessel while fishing in a closed area.

(18) No halibut caught by sport fishing shall be offered for sale, sold, traded, or bartered.

(19) No halibut caught in sport fishing shall be possessed onboard a vessel when other fish or shellfish aboard the said vessel are destined for commercial use, sale, trade, or barter.

(20) The operator of a charter vessel shall be liable for any violations of these regulations committed by a passenger aboard said vessel.

26. Previous Regulations Superseded

These regulations shall supersede all previous regulations of the Commission, and these regulations shall be effective each succeeding year until superseded.

Classification

IPHC Regulations

This final rule has been determined to be not significant for the purposes of Executive Order 12866.

The notice-and-comment and delay-in-effectiveness date requirements of the Administrative Procedure Act (APA), 5 U.S.C. 553, are inapplicable to this notice of the effectiveness and content of the IPHC regulations because this regulation involves a foreign affairs function of the United States, 5 U.S.C. 553(a)(1). Furthermore, no other law requires prior notice and public comment for this final rule. Because prior notice and an opportunity for public comment are not required to be provided for these portions of this rule by 5 U.S.C. 553, or any other law, the analytical requirements of the Regulatory Flexibility Act, 5 U.S.C. 601 et seq., are not applicable.

Catch Sharing Plan for Area 2A

This action has been determined to be not significant for purposes of Executive Order 12866.

The AA finds good cause to waive the requirement to provide a 30-day delay in effectiveness (5 U.S.C. 553(d)) because it is contrary to the public interest to delay the effectiveness date of this rule for 30 days. This final rule must be made effective for the opening of the 2007 Pacific halibut fishing season on March 10, 2007. Delaying the opening of the fishing season is contrary to the public interest because it would cause unnecessary economic burden on fishery participants due to loss of fishing opportunity. Because the annual quotas and management measures are ultimately determined by an international commission, the IPHC, the AA is constrained and cannot publish the final rule until after the IPHC has adopted the annual quotas and management measures for the year. NMFS's implementation of the CSP in Area 2A could not begin until after January 19, 2007, when the IPHC adopted annual quotas and management measures for 2007. Insufficient time existed between when the IPHC adopted the annual quotas and management measures for 2007 and the scheduled March 10, 2007, start of the fishing season to publish the regulations in the Federal Register with enough time for a 30-day delay in effectiveness.

NMFS prepared an Initial Regulatory Flexibility Analysis (IRFA) in association with the proposed rule for this action. A final regulatory flexibility analysis (FRFA) incorporates the IRFA, a summary of the significant issues raised by the public comments in response to the IRFA, if any, and NMFS responses to those comments, and a summary of the analyses completed to support the action. NMFS received no comments on the IRFA and the Area 2A 2007 TAC is approximately 3 percent less than the Area 2A 2006 TAC, a reduction so minor that the differences between 2006 and 2007 halibut management in Area 2A are imperceptible. Therefore, the IRFA for this action also serves as the FRFA. A copy of this analysis is available from the NMFS Northwest Region (see ADDRESSES) and a summary of the FRFA follows:

This final rule is necessary to implement the CSP and annual domestic management measures in Area 2A. The main objective for the Pacific halibut fishery in Area 2A is to manage the fisheries to remain within the TAC for Area 2A, while also allowing each commercial, recreational, and tribal fishery to target halibut in the manner most appropriate for the users' needs within that fishery. This final rule is intended to enhance the conservation of Pacific halibut, to protect yelloweye rockfish and other overfished species from incidental catch in the halibut fisheries, and to provide greater angler opportunity where available.

The agency received three letters of comment on the proposed rule, but none of the comments received addressed the IRFA or the effects of this action on small entities.

A fish-harvesting business is considered a “small” business by the Small Business Administration (SBA) if it has annual receipts not in excess of $4.0 million. For related fish-processing businesses, a small business is one that employs 500 or fewer persons. For wholesale businesses, a small business is one that employs not more than 100 people. For marinas and charter/party boats, a small business is one with annual receipts not in excess of $6.5 million. All of the businesses that would be affected by this action are considered small businesses under Small Business Administration guidance.

This action finalizes the following changes to the CSP, which allocates the catch of Pacific halibut among users in Washington, Oregon, and California: (1) constrain the Washington North Coast subarea June fishery to two specific nearshore areas on the first Tuesday and Thursday following June 17; (2) reopen the Washington North Coast subarea June fishery in the entire north coast subarea on the first Saturday following June 17; (3) if sufficient quota remains, reopen the entire Washington North Coast subarea for one day on the first Thursday following June 24, otherwise, reopen the nearshore areas on the first Thursday following June 24 for up to four days per week (Thursday-Sunday) until the quota is taken; (4) set aside 5 percent of the Washington South Coast subarea quota for the nearshore fishery once the primary fishery has closed; (5) set the Washington South Coast subarea nearshore fishery as a 2-day per week fishery, open Fridays and Saturdays; (6) implement additional closed areas (Yelloweye Rockfish Conservation Areas, or YRCAs) off the coast of Washington that would affect commercial and sport halibut fisheries; (7) remove latitude/longitude coordinates from the CSP but refer to where in the regulations they are published to reduce duplication; (8) remove language referring to salmon troll fishery July-September season; (9) add a definition of the Bonilla-Tatoosh line; and (10) decrease the California possession limit on land from two daily limits to one daily limit statewide to conform with state regulation. This action also implements sport fishery management measures for Area 2A and revises Area 2A non-treaty commercial fishery closed areas specified at 50 CFR 300.63. These actions are intended to enhance the conservation of Pacific halibut, to provide greater angler opportunity where available, to protect yelloweye rockfish and other overfished groundfish species from incidental catch in the halibut fisheries, and to ensure consistency between Federal groundfish and halibut regulations and between State and Federal regulations.

In 1995, NMFS implemented the CSP, when the TAC was 520,000 lb (236 mt). In each of the intervening years between 1995 and the present, minor revisions to the CSP have been made to adjust for the changing needs of the fisheries, even though the TAC reached levels of over 1 million lb (454 mt), with a peak of 1.48 million lb (671 mt) in 2004. Since 2004, there has been very little change in the total allowable catch and sector allocations. In 2005, the Area 2A Halibut TAC set by the IPHC was 1.33 million lb (603 mt) and for 2006 it was 1.38 million lb (626 mt). The 2007 Area 2A TAC is 1.34 million lb (608 mt), a 3 percent decline from 2006.

Six hundred sixty two vessels were issued IPHC licenses to retain halibut in 2006. IPHC issues licenses for the directed commercial fishery in Area 2A, including licenses issued to retain halibut caught incidentally in the primary sablefish fishery (298 licenses in 2006); incidental halibut caught in the salmon troll fishery (224 licenses in 2006); and the charterboat fleet (140 licenses in 2006). No vessel may participate in more than one of these three fisheries per year. Individual recreational anglers and private boats are the only sectors that are not required to have an IPHC license to retain halibut.

Specific data on the economics of halibut charter operations are unavailable. However, in January 2004, the Pacific States Marine Fisheries Commission (PSMFC) completed a report on the overall West Coast charterboat fleet. In surveying charterboat vessels concerning their operations in 2000, the PSMFC estimated that there were about 315 charterboat vessels in operation off Washington and Oregon. In 2000, IPHC licensed 130 vessels to fish in the halibut sport charter fishery. Comparing the total charterboat fleet to the 130 and 140 IPHC licenses in 2000 and 2006, respectively, approximately 41 to 44 percent of the charterboat fleet could participate in the halibut fishery. The PSMFC has developed preliminary estimates of the annual revenues earned by this fleet and they vary by size class of the vessels and home state. Small charterboat vessels range from 15 to 30 ft (4.6 to 9.1 m), and typically carry 5 to 6 passengers. Medium charterboat vessels range from 31 to 49 ft (9.4 to 14.9 m) in length and typically carry 19 to 20 passengers. (Neither state has large vessels of greater than 49 ft (14.9 m) in their fleet.) Average annual revenues from all types of recreational fishing, whalewatching and other activities ranged from $7,000 for small Oregon vessels to $131,000 for medium Washington vessels. Estimates from the RIR for this action show the recreational halibut fishery generated approximately $2.5 million in personal income to West Coast communities, while the non-tribal commercial halibut fishery generated approximately $1.8 million in income impacts. Because these estimated impacts for the entire halibut fishery overall are less than the SBA criteria for individual businesses, these data confirm that charterboat and commercial halibut vessels qualify as small entities under the Regulatory Flexibility Act (RFA).

These changes are authorized under the Pacific Halibut Act, implementing regulations at 50 CFR 300.60 through 300.65, and the Pacific Council process of annually evaluating the utility and effectiveness of Area 2A Pacific halibut management under the CSP. Given the TAC, the sport management measures implement the CSP by managing the recreational fishery to meet the differing fishery needs of the various areas along the coast according to the CSP's objectives. Commercial management measures will allow the fishery access to a portion of the Area 2A TAC while protecting overfished rockfish species that co-occur with halibut. The measures will be very similar to last year's management measures. The changes to the CSP and domestic management measures are minor changes and are intended to increase flexibility in management and opportunity to harvest available quota. There are no large entities involved in the halibut fisheries; therefore, none of these changes to the CSP and domestic management measures will have a disproportionate negative effect on small entities versus large entities.

This final rule does not impose any new reporting or recordkeeping requirements. This rule will also not duplicate, overlap, or conflict with other laws or regulations. Consequently, these changes to the CSP and annual domestic Area 2A halibut management measures do not meet any of the RFA tests of having a “significant” economic impact on a “substantial number” of small entities.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of halibut management in Area 2A, NMFS maintains a toll-free telephone hotline where members of the public may call in to receive current information on seasons and requirements to participate in the halibut fisheries in Area 2A. This hotline also serves as small entity compliance guide. Copies of this final rule are available from the NMFS Northwest Regional Office upon request (See ADDRESSES). To hear the small entity compliance guide associated with this final rule, call the NMFS hotline at 800 662 9825.

Pursuant to Executive Order 13175, the Secretary recognizes the sovereign status and co-manager role of Indian tribes over shared Federal and tribal fishery resources. At section 305(b)(5), the Magnuson-Stevens Fishery Conservation and Management Act establishes a seat on the Pacific Council for a representative of an Indian tribe with federally recognized fishing rights from California, Oregon, Washington, or Idaho. The U.S. Government formally recognizes that 12 Washington tribes have treaty rights to fish for Pacific halibut. In general terms, the quantification of those rights is 50 percent of the harvestable surplus of Pacific halibut available in the tribes' usual and accustomed fishing areas (described at 50 CFR 300.64). Each of the treaty tribes has the discretion to administer their fisheries and to establish their own policies to achieve program objectives. Accordingly, tribal allocations and regulations, including the changes to the CSP, have been developed in consultation with the affected tribe(s) and, insofar as possible, with tribal consensus.

List of Subjects in 50 CFR Part 300

Fisheries, Fishing, Reporting and recordkeeping requirements, Treaties.

Dated: March 8, 2007.
William T. Hogarth,
Assistant Administrator for Fisheries, National Marine Fisheries Service.

For the reasons set out in the preamble, NMFS amends 50 CFR part 300 as follows:

PART 300—INTERNATIONAL FISHERIES REGULATIONS

1. The authority citation for part 300 continues to read as follows:

Authority: 16 U.S.C. 773 et seq.

2. In § 300.63, paragraphs (e), (f), and (g) are revised to read as follows:

§ 300.63 Catch sharing plan and domestic management measures in Area 2A.

* * * * *

(e) Area 2A Non-Treaty Commercial Fishery Closed Areas. (1) Non-treaty commercial vessels operating in the directed commercial fishery for halibut in Area 2A are required to fish outside of a closed area, known as the Rockfish Conservation Area (RCA), that extends along the coast from the U.S./Canada border south to 40°10′ N. lat. Between the U.S./Canada border and 46°16′ N. lat., the eastern boundary of the RCA is the shoreline. Between 46°16′ N. lat. and 40°10′ N. lat., the RCA is defined along an eastern boundary approximating the 30-fm (55-m) depth contour. Coordinates for the 30-fm (55-m) boundary are listed at § 300.63 (f). Between the U.S./Canada border and 40°10′ N. lat., the RCA is defined along a western boundary approximating the 100-fm (183-m) depth contour. Coordinates for the 100-fm (183-m) boundary are listed at § 300.63 (g).

(2) Non-treaty commercial vessels operating in the incidental catch fishery during the sablefish fishery north of Pt. Chehalis, Washington, in Area 2A are required to fish outside of a closed area. Under Pacific Coast groundfish regulations at 50 CFR 660.382, fishing with limited entry fixed gear is prohibited within the North Coast Commercial Yelloweye Rockfish Conservation Area (YRCA). It is unlawful to take and retain, possess, or land halibut taken with limited entry fixed gear within the North Coast Commercial YRCA. The North Coast Commercial YRCA is an area off the northern Washington coast, overlapping the northern part of North Coast Recreational YRCA, and is defined by straight lines connecting latitude and longitude coordinates. Coordinates for the North Coast Commercial YRCA are specified in groundfish regulations at 50 CFR 660.390.

(3) Non-treaty commercial vessels operating in the incidental catch fishery during the salmon troll fishery in Area 2A are required to fish outside of a closed area. Under the Pacific Coast groundfish regulations at 50 CFR 660.383, fishing with salmon troll gear is prohibited within the Salmon Troll YRCA. It is unlawful for commercial salmon troll vessels to take and retain, possess, or land fish within the Salmon Troll YRCA. The Salmon Troll YRCA is an area off the northern Washington coast and is defined by straight lines connecting latitude and longitude coordinates. Coordinates for the Salmon Troll YRCA are specified in groundfish regulations at 50 CFR 660.390 and in salmon regulations at 50 CFR 660.405.

(f) The 30-fm (55-m) depth contour between 46°16′ N. lat. and 40°10′ N. lat. is defined by straight lines connecting all of the following points in the order stated:

(1) 46°16.00′ N. lat., 124°13.05′ W. long.;

(2) 46°16.00′ N. lat., 124°13.04′ W. long.;

(3) 46°07.00′ N. lat., 124°07.01′ W. long.;

(4) 45°55.95′ N. lat., 124°02.23′ W. long.;

(5) 45°54.53′ N. lat., 124°02.57′ W. long.;

(6) 45°50.65′ N. lat., 124°01.62′ W. long.;

(7) 45°48.20′ N. lat., 124°02.16′ W. long.;

(8) 45°46.00′ N. lat., 124°01.86′ W. long.;

(9) 45°43.46′ N. lat., 124°01.28′ W. long.;

(10) 45°40.48′ N. lat., 124°01.03′ W. long.;

(11) 45°39.04′ N. lat., 124°01.68′ W. long.;

(12) 45°35.48′ N. lat., 124°01.90′ W. long.;

(13) 45°29.81′ N. lat., 124°02.45′ W. long.;

(14) 45°27.97′ N. lat., 124°01.90′ W. long.;

(15) 45°27.22′ N. lat., 124°02.66′ W. long.;

(16) 45°24.20′ N. lat., 124°02.94′ W. long.;

(17) 45°20.60′ N. lat., 124°01.74′ W. long.;

(18) 45°20.25′ N. lat., 124°01.85′ W. long.;

(19) 45°16.44′ N. lat., 124°03.22′ W. long.;

(20) 45°13.63′ N. lat., 124°02.69′ W. long.;

(21) 45°11.05′ N. lat., 124°03.59′ W. long.;

(22) 45°08.55′ N. lat., 124°03.47′ W. long.;

(23) 45°02.81′ N. lat., 124°04.64′ W. long.;

(24) 44°58.06′ N. lat., 124°05.03′ W. long.;

(25) 44°53.97′ N. lat., 124°06.92′ W. long.;

(26) 44°48.89′ N. lat., 124°07.04′ W. long.;

(27) 44°46.94′ N. lat., 124°08.25′ W. long.;

(28) 44°42.72′ N. lat., 124°08.98′ W. long.;

(29) 44°38.16′ N. lat., 124°11.48′ W. long.;

(30) 44°33.38′ N. lat., 124°11.54′ W. long.;

(31) 44°28.51′ N. lat., 124°12.04′ W. long.;

(32) 44°27.65′ N. lat., 124°12.56′ W. long.;

(33) 44°19.67′ N. lat., 124°12.37′ W. long.;

(34) 44°10.79′ N. lat., 124°12.22′ W. long.;

(35) 44°09.22′ N. lat., 124°12.28′ W. long.;

(36) 44°08.30′ N. lat., 124°12.30′ W. long.;

(37) 44°00.22′ N. lat., 124°12.80′ W. long.;

(38) 43°51.56′ N. lat., 124°13.18′ W. long.;

(39) 43°44.26′ N. lat., 124°14.50′ W. long.;

(40) 43°33.82′ N. lat., 124°16.28′ W. long.;

(41) 43°28.66′ N. lat., 124°18.72′ W. long.;

(42) 43°23.12′ N. lat., 124°24.04′ W. long.;

(43) 43°20.83′ N. lat., 124°25.67′ W. long.;

(44) 43°20.48′ N. lat., 124°25.90′ W. long.;

(45) 43°16.41′ N. lat., 124°27.52′ W. long.;

(46) 43°14.23′ N. lat., 124°29.28′ W. long.;

(47) 43°14.03′ N. lat., 124°28.31′ W. long.;

(48) 43°11.92′ N. lat., 124°28.26′ W. long.;

(49) 43°11.02′ N. lat., 124°29.11′ W. long.;

(50) 43°10.13′ N. lat., 124°29.15′ W. long.;

(51) 43°09.26′ N. lat., 124°31.03′ W. long.;

(52) 43°07.73′ N. lat., 124°30.92′ W. long.;

(53) 43°05.93′ N. lat., 124°29.64′ W. long.;

(54) 43°01.59′ N. lat., 124°30.64′ W. long.;

(55) 42°59.72′ N. lat., 124°31.16′ W. long.;

(56) 42°53.75′ N. lat., 124°36.09′ W. long.;

(57) 42°50.00′ N. lat., 124°38.39′ W. long.;

(58) 42°49.37′ N. lat., 124°38.81′ W. long.;

(59) 42°46.42′ N. lat., 124°37.69′ W. long.;

(60) 42°46.07′ N. lat., 124°38.56′ W. long.;

(61) 42°45.29′ N. lat., 124°37.95′ W. long.;

(62) 42°45.61′ N. lat., 124°36.87′ W. long.;

(63) 42°44.27′ N. lat., 124°33.64′ W. long.;

(64) 42°42.75′ N. lat., 124°31.84′ W. long.;

(65) 42°40.50′ N. lat., 124°29.67′ W. long.;

(66) 42°40.04′ N. lat., 124°29.20′ W. long.;

(67) 42°38.09′ N. lat., 124°28.39′ W. long.;

(68) 42°36.73′ N. lat., 124°27.54′ W. long.;

(69) 42°36.56′ N. lat., 124°28.40′ W. long.;

(70) 42°35.77′ N. lat., 124°28.79′ W. long.;

(71) 42°34.03′ N. lat., 124°29.98′ W. long.;

(72) 42°34.19′ N. lat., 124°30.58′ W. long.;

(73) 42°31.27′ N. lat., 124°32.24′ W. long.;

(74) 42°27.07′ N. lat., 124°32.53′ W. long.;

(75) 42°24.21′ N. lat., 124°31.23′ W. long.;

(76) 42°20.47′ N. lat., 124°28.87′ W. long.;

(77) 42°14.60′ N. lat., 124°26.80′ W. long.;

(78) 42°13.67′ N. lat., 124°26.25′ W. long.;

(79) 42°10.90′ N. lat., 124°24.56′ W. long.;

(80) 42°07.04′ N. lat., 124°23.35′ W. long.;

(81) 42°02.16′ N. lat., 124°22.59′ W. long.;

(82) 42°00.00′ N. lat., 124°21.81′ W. long.;

(83) 41°55.75′ N. lat., 124°20.72′ W. long.;

(84) 41°50.93′ N. lat., 124°23.76′ W. long.;

(85) 41°42.53′ N. lat., 124°16.47′ W. long.;

(86) 41°37.20′ N. lat., 124°17.05′ W. long.;

(87) 41°24.58′ N. lat., 124°10.51′ W. long.;

(88) 41°20.73′ N. lat., 124°11.73′ W. long.;

(89) 41°17.59′ N. lat., 124°10.66′ W. long.;

(90) 41°04.54′ N. lat., 124°14.47′ W. long.;

(91) 40°54.26′ N. lat., 124°13.90′ W. long.;

(92) 40°40.31′ N. lat., 124°26.24′ W. long.;

(93) 40°34.00′ N. lat., 124°27.39′ W. long.;

(94) 40°30.00′ N. lat., 124°31.32′ W. long.;

(95) 40°28.89′ N. lat., 124°32.43′ W. long.;

(96) 40°24.77′ N. lat., 124°29.51′ W. long.;

(97) 40°22.47′ N. lat., 124°24.12′ W. long.;

(98) 40°19.73′ N. lat., 124°23.59′ W. long.;

(99) 40°18.64′ N. lat., 124°21.89′ W. long.;

(100) 40°17.67′ N. lat., 124°23.07′ W. long.;

(101) 40°15.58′ N. lat., 124°23.61′ W. long.;

(102) 40°13.42′ N. lat., 124°22.94′ W. long.; and

(103) 40°10.00′ N. lat., 124°16.65′ W. long.

(g) The 100-fm (183-m) depth contour used between the U.S. border with Canada and 40°10′ N. lat. is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.08′ N. lat., 124°59.22′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.40′ N. lat., 124°37.70′ W. long.;

(83) 46°18.03′ N. lat., 124°35.46′ W. long.;

(84) 46°17.00′ N. lat., 124°22.50′ W. long.;

(85) 46°16.00′ N. lat., 124°20.62′ W. long.;

(86) 46°13.52′ N. lat., 124°25.49′ W. long.;

(87) 46°12.17′ N. lat., 124°30.74′ W. long.;

(88) 46°10.63′ N. lat., 124°37.96′ W. long.;

(89) 46°09.29′ N. lat., 124°39.01′ W. long.;

(90) 46°02.40′ N. lat., 124°40.37′ W. long.;

(91) 45°56.45′ N. lat., 124°38.00′ W. long.;

(92) 45°51.92′ N. lat., 124°38.50′ W. long.;

(93) 45°47.20′ N. lat., 124°35.58′ W. long.;

(94) 45°46.40′ N. lat., 124°32.36′ W. long.;

(95) 45°46.00′ N. lat., 124°32.10′ W. long.;

(96) 45°41.75′ N. lat., 124°28.12′ W. long.;

(97) 45°36.95′ N. lat., 124°24.47′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.39′ N. lat., 124°18.35′ W. long.;

(104) 45°03.83′ N. lat., 124°18.60′ W. long.;

(105) 44°58.05′ N. lat., 124°21.58′ W. long.;

(106) 44°47.67′ N. lat., 124°31.41′ W. long.;

(107) 44°44.54′ N. lat., 124°33.58′ W. long.;

(108) 44°39.88′ N. lat., 124°35.00′ W. long.;

(109) 44°32.90′ N. lat., 124°36.81′ W. long.;

(110) 44°30.34′ N. lat., 124°38.56′ W. long.;

(111) 44°30.04′ N. lat., 124°42.31′ W. long.;

(112) 44°26.84′ N. lat., 124°44.91′ W. long.;

(113) 44°17.99′ N. lat., 124°51.04′ W. long.;

(114) 44°12.92′ N. lat., 124°56.28′ W. long.;

(115) 44°00.14′ N. lat., 124°55.25′ W. long.;

(116) 43°57.68′ N. lat., 124°55.48′ W. long.;

(117) 43°56.66′ N. lat., 124°55.45′ W. long.;

(118) 43°56.47′ N. lat., 124°34.61′ W. long.;

(119) 43°42.73′ N. lat., 124°32.41′ W. long.;

(120) 43°30.92′ N. lat., 124°34.43′ W. long.;

(121) 43°20.83′ N. lat., 124°39.39′ W. long.;

(122) 43°17.45′ N. lat., 124°41.16′ W. long.;

(123) 43°07.04′ N. lat., 124°41.25′ W. long.;

(124) 43°03.45′ N. lat., 124°44.36′ W. long.;

(125) 43°03.91′ N. lat., 124°50.81′ W. long.;

(126) 42°55.70′ N. lat., 124°52.79′ W. long.;

(127) 42°54.12′ N. lat., 124°47.36′ W. long.;

(128) 42°50.00′ N. lat., 124°45.33′ W. long.;

(129) 42°44.00′ N. lat., 124°42.38′ W. long.;

(130) 42°40.50′ N. lat., 124°41.71′ W. long.;

(131) 42°38.23′ N. lat., 124°41.25′ W. long.;

(132) 42°33.02′ N. lat., 124°42.38′ W. long.;

(133) 42°31.90′ N. lat., 124°42.04′ W. long.;

(134) 42°30.08′ N. lat., 124°42.67′ W. long.;

(135) 42°28.28′ N. lat., 124°47.08′ W. long.;

(136) 42°25.22′ N. lat., 124°43.51′ W. long.;

(137) 42°19.23′ N. lat., 124°37.91′ W. long.;

(138) 42°16.29′ N. lat., 124°36.11′ W. long.;

(139) 42°13.67′ N. lat., 124°35.81′ W. long.;

(140) 42°05.66′ N. lat., 124°34.92′ W. long.;

(141) 42°00.00′ N. lat., 124°35.27′ W. long.;

(142) 41°47.04′ N. lat., 124°27.64′ W. long.;

(143) 41°32.92′ N. lat., 124°28.79′ W. long.;

(144) 41°24.17′ N. lat., 124°28.46′ W. long.;

(145) 41°10.12′ N. lat., 124°20.50′ W. long.;

(146) 40°51.41′ N. lat., 124°24.38′ W. long.;

(147) 40°43.71′ N. lat., 124°29.89′ W. long.;

(148) 40°40.14′ N. lat., 124°30.90′ W. long.;

(149) 40°37.35′ N. lat., 124°29.05′ W. long.;

(150) 40°34.76′ N. lat., 124°29.82′ W. long.;

(151) 40°36.78′ N. lat., 124°37.06′ W. long.;

(152) 40°32.44′ N. lat., 124°39.58′ W. long.;

(153) 40°30.00′ N. lat., 124°38.13′ W. long.;

(154) 40°24.82′ N. lat., 124°35.12′ W. long.;

(155) 40°23.30′ N. lat., 124°31.60′ W. long.;

(156) 40°23.52′ N. lat., 124°28.78′ W. long.;

(157) 40°22.43′ N. lat., 124°25.00′ W. long.;

(158) 40°21.72′ N. lat., 124°24.94′ W. long.;

(159) 40°21.87′ N. lat., 124°27.96′ W. long.;

(160) 40°21.40′ N. lat., 124°28.74′ W. long.;

(161) 40°19.68′ N. lat., 124°28.49′ W. long.;

(162) 40°17.73′ N. lat., 124°25.43′ W. long.;

(163) 40°18.37′ N. lat., 124°23.35′ W. long.;

(164) 40°15.75′ N. lat., 124°26.05′ W. long.;

(165) 40°16.75′ N. lat., 124°33.71′ W. long.;

(166) 40°16.29′ N. lat., 124°34.36′ W. long.; and

(167) 40°10.00′ N. lat., 124°21.12′ W. long.

[FR Doc. 07-1196 Filed 3-9-07; 3:02 pm]

BILLING CODE 3510-22-S